DEPARTMENT OF AGRICULTURE

Forest Service

Notice of New Fee; Federal Lands Recreation Enhancement Act (Title VIII, Pub. L. 108-447)

AGENCY: National Forests in Florida, Ocala National Forest. USDA Forest Service.

ACTION: Notice of New Fee Site.

SUMMARY: The USDA Forest Service proposes a new fee site that will involve a special recreation permit for each operator using the Ocala National Forest designated off-highway vehicle trail system. There would be a choice between a three-consecutive day permits ($15) or an annual permit (proposed to be between $60 and up to $120 pending final financial and marketing analysis, public input, and agency review). The Forest Service will use funds generated to sustain the trail system, facilities, patrols, and monitoring.

The Ocala National Forest is committed to providing quality motorized recreation in balance with what the land can support. The Ocala National Forest recently designated approximately 150 miles of off-highway vehicle trails for motorcycles and unlicensed all-terrain vehicles that consist of mixed-use roads, ATV/motorcycle trails, and motorcycle-only trails. Analysis has begun to consider additional designated trails on the Ocala National Forest which would be included in the fee permit system.

DATES: The proposed fee would be initiated no sooner than April 1, 2007. Comments, concerns, or questions on this proposal must be submitted by October 30, 2006.

ADDRESSES: Submit comments, concerns, or questions about this proposal to District Ranger, Ocala National Forest, 40929 State Road 19, Umatilla, Florida 3448-5849.

FOR FURTHER INFORMATION CONTACT: Contact Bret Bush, Recreation Program Manager, 352-625-2520 extension 2509.

SUPPLEMENTARY INFORMATION: The Federal Recreation Lands Enhancement Act (Title VIII, Pub. L. 108-447) directed the Secretary of Agriculture to publish a six-month advance notice in the Federal Register whenever new recreation fee areas are established. The Recreation Resource Advisory Committee will review proposals for new fees at least three months prior to the recommended initiation date.

Dated: October 3, 2006.
John Richard Lint,
District Ranger, Ocala National Forest.

[FR Doc. 06-8929 Filed 10-26-06; 8:45 am]

BILLING CODE 3410-11-M